OVERSEAS PRIVATE INVESTMENT CORPORATION

Sunshine Act Meeting Cancellation—OPIC September 14, 2011 Public Hearing

OPIC's Sunshine Act notice of its Public Hearing in Conjunction with each Board meeting was published in the Federal Register (Volume 76, Number 167, Page 53702) on August 29, 2011. No requests were received to provide testimony or submit written statements for the record; therefore, OPIC's public hearing scheduled for 2 p.m., September 14, 2011 in conjunction with OPIC's September 22, 2011 Board of Directors meeting has been cancelled.

CONTACT PERSON FOR INFORMATION: Information on the hearing cancellation may be obtained from Connie M. Downs at (202) 336-8438, or via e-mail at Connie.Downs@opic.gov.

Dated: September 12, 2011.
Connie M. Downs,
OPIC Corporate Secretary.

[FR Doc. 2011-23611 Filed 9-12-11; 11:15 am]

BILLING CODE 3210-01-P